DEPARTMENT OF ENERGY

Federal Energy Regulatory Commission

[Project No. 2031-046]

Springville City, UT; Notice of Availability of Environmental Assessment

May 13, 2002.

In accordance with the National Environmental Policy Act of 1969 and the Federal Energy Regulatory Commission's (Commission's) regulations, the Office of Energy Projects has reviewed the application dated August 30, 2000, requesting the Commission's authorization to issue a new license for the existing Bartholomew Hydroelectric Project, and has prepared an Environmental Assessment (EA) for the proposed and alternative actions. The subject project is located within Bartholomew Canyon and on Hobble Creek, in Utah County, Utah. The project is partially situated on federal lands within the Uinta National Forest.

Copies of the EA can be viewed at the Commission's Public Reference Room, Room 2A, 888 First Street, NE., Washington, DC 20426, or by calling (202) 208-1371. The document also may be viewed on the Web at www.ferc.fed.us/online/rims.htm. Call (202) 208-2222 for assistance.

Any comments on the EA should be filed within 45 days from the date of this notice and should be addressed to: Magalie R. Salas, Secretary, Federal Energy Regulatory Commission, 888 First Street, NE., Washington, DC 20426. Please affix “Bartholomew Hydroelectric Project, No.2031-046” to the first page of your comments. All timely filed comments will be considered in any Commission order addressing the proposed new license.

If you have any questions concerning this matter, please telephone the Commission's Environmental Coordinator for the Bartholomew Hydroelectric Project at (202) 219-2780 or contact him by E-mail at james.haimes@ferc.gov.

Magalie R. Salas,
Secretary.

[FR Doc. 02-12369 Filed 5-16-02; 8:45 am]

BILLING CODE 6717-01-P